DEPARTMENT OF VETERANS AFFAIRS

[OMB Control No. 2900-0568]

Agency Information Collection Activity Under OMB Review: Submission of School Catalog to the State Approving Agency

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 8, 2020.

ADDRESSES: Submit written comments on the collection of information through www.Regulations.gov, or to the Office of Information and Regulatory Affairs, Office of Management and Budget, Attn: VA Desk Officer; 725 17th St. NW, Washington, DC 20503 or sent through electronic mail to oira_submission@omb.eop.gov. Please refer to “OMB Control No. 2900-0568” in any correspondence.

FOR FURTHER INFORMATION CONTACT: Danny S. Green at (202) 421-1354.

SUPPLEMENTARY INFORMATION:

Authority: Title 38 CFR, sections 21.4253 and 21.4254, restates this statutory requirement in the Code of Federal Regulations, and Title 38 U.S.C. 3676.

Title: Submission of School Catalog to the State Approving Agency (VA Form = No Form).

OMB Control Number: 2900-0568.

Type of Review: Revision of a currently approved collection.

Abstract: State approving agencies and VA use the catalogs to determine what courses can be approved for VA training. VA receives catalogs when institutions change their education programs. In general, the catalogs are collected approximately once a year. Without this information, VA and the State approving agencies cannot determine what courses could be approved.

Affected Public: Individuals or households.

Estimated Annual Burden: 2,582 hours.

Estimated Average Burden per Respondent: 15 minutes.

Frequency of Response: On occasion.

Actual Number of Respondents: 10,330.

By direction of the Secretary.
Danny S. Green,
VA Interim Clearance Officer, Office of Quality, Performance and Risk, Department of Veterans Affairs.

[FR Doc. 2019-26391 Filed 12-6-19; 8:45 am]

BILLING CODE 8320-01-P